DEPARTMENT OF ENERGY

Cancellation of Supplemental Environmental Impact Statement for Ancillary Facilities for the Richton Site of the Strategic Petroleum Reserve

AGENCY: Department of Energy.

ACTION: Notice of Cancellation.

SUMMARY: The U.S. Department of Energy (DOE) announces the cancellation of a supplemental environmental impact statement (SEIS) for certain facilities associated with the 2007 selection of Richton, Mississippi, as the location of a new storage site for expanding the Strategic Petroleum Reserve (SPR). In April 2011, Congress rescinded all funding for the SPR expansion project.

FOR FURTHER INFORMATION CONTACT: For information on the cancellation of the SEIS, contact Donald Silawsky, Acting Director, Office of Reserve Lands Management (FE-47), U.S. Department of Energy, 1000 Independence Ave., SW., Washington, DC 20585, e-mail donald.silawsky@hq.doe.gov, telephone 202-586-1892. For general information on the DOE NEPA process, contact Carol M. Borgstrom, Director, Office of NEPA Policy and Compliance (GC-54), U.S. Department of Energy, 1000 Independence Avenue, SW., Washington, DC 20585, telephone 202-586-4600 or leave a message at 800-472-2756.

SUPPLEMENTARY INFORMATION: The Energy Policy Act of 2005 (EPACT, Pub. L. 109-58) directed DOE to expand the SPR from its current 727 million-barrel capacity to 1 billion barrels. To fulfill the requirements of the National Environmental Policy Act (NEPA) for this expansion project, DOE prepared an environmental impact statement for the Site Selection for the Expansion of the Strategic Petroleum Reserve (DOE/EIS-0385). In a Record of Decision (ROD) (72 FR 7964; February 22, 2007), DOE announced its selection of Richton, Mississippi, as the location of a new SPR facility as part of the expansion project.

After selecting the Richton site, DOE engaged in further consultations with the Mississippi Department of Environmental Quality, U.S. Fish and Wildlife Service, and other governmental entities. As a result of those consultations, and to reduce project impacts, DOE proposed alternative sites from those announced in the ROD for some of the ancillary facilities associated with the Richton site: the raw water intake structure, oil terminal, and brine diffuser. DOE determined that alternative locations for those ancillary facilities would present substantial changes to the proposal as analyzed in DOE/EIS-0385 that would be relevant to environmental concerns. DOE published a Notice of Intent to prepare an SEIS to analyze the impacts of potential new locations for the ancillary facilities associated with the Richton site (73 FR 11895; March 5, 2008) and conducted public scoping.

On February 1, 2010, the President submitted a budget request to Congress for Fiscal Year (FY) 2011 that included no new funding to continue SPR expansion efforts and proposed cancellation of previously appropriated expansion funds. In April 2011, Congress passed, and the President signed, the Department of Defense and Full-Year Continuing Appropriations Act, 2011 (Pub. L. 112-10). Sections 1440 and 1464 of that Act rescinded all unspent balances of prior year funds that had been appropriated for SPR expansion. The President's FY 2012 budget includes no funds for SPR expansion.

With prior appropriated funds rescinded, and no new funds proposed, the SPR expansion project is effectively terminated. DOE is therefore cancelling the preparation of the SEIS for the ancillary facilities of the SPR expansion project at the Richton Site (DOE/EIS-0385-S1).

Issued in Washington, DC, on September 1, 2011.
David F. Johnson,
Deputy Assistant Secretary, Office of Petroleum Reserves.

[FR Doc. 2011-23087 Filed 9-8-11; 8:45 am]

BILLING CODE 6450-01-P